DEPARTMENT OF THE INTERIOR

National Park Service

General Management Plan and Environmental Impact Statement, New River Gorge National River, WV

AGENCY: National Park Service, Department of the Interior.

ACTION: Notice of Intent to prepare a General Management Plan and Environmental Impact Statement for New River Gorge National River.

SUMMARY: Pursuant to section 102(2)(C) of the National Environmental Policy Act of 1969 (NEPA), the National Park Service (NPS) announces its intent to prepare a General Management Plan and Environmental Impact Statement (GMP/EIS) for the New River Gorge National River, located in Fayette, Raleigh, and Summers Counties of southern West Virginia. The GMP will allow the park to develop a unified approach to managing the major changes in and adjacent to the park since the 1982 GMP was prepared, to focus on protecting park natural, cultural, and scenic resources, and to identify opportunities to facilitate appropriate forms of visitor education, interpretation and use. The GMP will provide an opportunity to inform the public regarding the park's significance and resources, and develop partnerships with various stakeholder groups for their preservation. Prepared by NPS staff at the park and the Northeast Region, and with the assistance of consultants, the GMP/EIS will propose a long-term approach to managing the New River Gorge National River.

FOR FURTHER INFORMATION CONTACT: Calvin Hite, Superintendent, New River Gorge National River, 104 Main Street, P.O. Box 246, Glen Jean, WV 25846, (304) 465-0508.

SUPPLEMENTARY INFORMATION: Consistent with the park's mission, NPS policy, and other laws and regulations, alternatives will be developed to guide the management of the national river over the next 15 to 20 years. The alternatives will incorporate various zoning and management prescriptions to ensure resource protection and public enjoyment of the national river. As a part of the process, the potential for wilderness will be assessed; if any areas are found to be potentially suitable, they will be considered as a part of the GMP/EIS. The environmental consequences that could result from implementing the various alternatives will be evaluated in the GMP/EIS. The public will be invited to express opinions about the management of the park early in the process through public meetings and other media and will have an opportunity to review and comment on the draft GMP/EIS. Following the public review processes outlined under NEPA, the final plan will become official, authorizing implementation of a preferred alternative. The target date for the Record of Decision is October 2007.

Dated: December 19, 2005.
Calvin Hite,
Superintendent, New River Gorge National River.

[FR Doc. E6-1102 Filed 1-27-06; 8:45 am]

BILLING CODE 4310-70-P